FEDERAL COMMUNICATIONS COMMISSION

47 CFR Part 73

[MB Docket No. 14-226; FCC 15-118]

Broadcast Licensee-Conducted Contests

AGENCY: Federal Communications Commission.

ACTION: Final rule; announcement of effective date.

SUMMARY: In this document, the Federal Communications Commission (Commission) announces that the Office of Management and Budget (OMB) has approved, for a period of three years, information collection requirements adopted in the Commission's Report and Order relating to the Amendment of the Commission's Rules Related to Broadcast Licensee-Conducted Contests. This document is consistent with the Report and Order, which stated that the Commission would publish a document in the Federal Register announcing OMB approval and the effective date of the rule.

DATES: The amendments to 47 CFR 73.1216, published at 80 FR 64354, October 23, 2015, are effective on February 12, 2016.

FOR FURTHER INFORMATION CONTACT: Cathy Williams by email at Cathy.Williams@fcc.gov and telephone at (202) 418-2918.

SUPPLEMENTARY INFORMATION: This document announces that, on February 3, 2016, OMB approved information collection requirements contained in the Commission's Report and Order, FCC 15-118, published at 80 FR 64354. The OMB Control Number is 3060-1209. The Commission publishes this document as an announcement of the effective date of those information collection requirements.

Synopsis

As required by the Paperwork Reduction Act of 1995 (44 U.S.C. 3507), the FCC is notifying the public that it received OMB approval on February 3, 2016, for the information collection requirements contained in 47 CFR 73.1216, as amended in the Commission's Report and Order, FCC 15-118. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1209.

The foregoing notification is required by the Paperwork Reduction Act of 1995, Public Law 104-13, October 1, 1995, and 44 U.S.C. 3507.

The total annual reporting burdens and costs for the respondents are as follows:

OMB Control Number: 3060-1209.

OMB Approval Date: February 3, 2016.

OMB Expiration Date: February 28, 2019.

Title: Section 73.1216, Licensee-Conducted Contests.

Form Number: None.

Respondents: Business or other for-profit entities; Not-for-profit institutions.

Number of Respondents and Responses: 20,732 respondents; 20,732 responses.

Estimated Time per Response: 0.1-9 hours.

Frequency of Response: On occasion reporting requirement, Third party disclosure requirement; Recordkeeping requirement.

Obligation to Respond: Required in order to monitor regulatory compliance. The statutory authority for this collection of information is contained in Sections 1, 4 and 303 of the Communications Act of 1934, as amended.

Total Annual Burden: 122,854 hours.

Total Annual Cost: $6,219,300.

Nature and Extent of Confidentiality: There is no need for confidentiality with this collection of information.

Privacy Act Impact Assessment: No impact(s).

Needs and Uses: The Commission's amendments to its “Contest Rule” permit broadcast licensees to comply with their obligation to disclose material contest terms either by broadcasting those terms or by making them available in writing on a publicly accessible Internet Web site. The Commission's rule amendments also define the disclosure obligation in cases where a licensee has chosen to meet that obligation through an Internet Web site. The information collection requirements afford broadcasters more flexibility in the manner of their compliance with the Contest Rule while giving consumers improved access to important contest information.

Federal Communications Commission.
Gloria J. Miles,
Federal Register Liaison Officer, Office of the Secretary.

[FR Doc. 2016-02900 Filed 2-11-16; 8:45 am]

BILLING CODE 6712-01-P